SMALL BUSINESS ADMINISTRATION

[Declaration of Disaster #3596]

Commonwealth of Northern Mariana Islands; Island of Saipan

The Island of Saipan in the Commonwealth of the Northern Mariana Islands constitutes a disaster area as a result of damages caused by Typhoon Tingting that began on June 27 and continued through June 28, 2004. The typhoon caused structural damages throughout the Island of Saipan from wind, wind driven rain, and flooding in low-lying areas. Applications for loans for physical damage as a result of this disaster may be filed until the close of business on September 20, 2004, and for economic injury until the close of business on April 20, 2005, at the address listed below or other locally announced locations: U.S. Small Business Administration, Disaster Area 4 Office, P.O. Box 419004, Sacramento, CA 95841-9004.

The interest rates are:

| Percent
For Physical Damage:
Homeowners with Credit Available Elsewhere | 5.750
Homeowners without Credit Available Elsewhere | 2.875
Businesses with Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 359606 and for economic damage is 9ZK800.

(Catalog of Federal Domestic Assistance Program Nos. 59002 and 59008)

Dated: July 20, 2004.
Hector V. Barreto,
Administrator.

[FR Doc. 04-17036 Filed 7-26-04; 8:45 am]

BILLING CODE 8025-01-P